FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Venus Lines Inc., 15 Enclosure Drive, Morganville, NJ 07751. Officer: Sundar varadhan Raghuveer President (Qualifying Individual).

Echo Trans World Inc., 350 Vanderbilt Motor Pkwy., Suite 204, Hauppauge, NY 11788. Officer: Deror Balileti, Owner (Qualifying Individual).

Non-Vessel-Operating Common Carrier and Ocean Freight Forwarder Transportation Intermediary Applicants

Ocean Star Shipping Inc., East 80, Route 4, Suite 410, Paramus, NJ 07652. Officers: Lemin Li, Vice President (Qualifying Individual), Charles S. Wang, President.

Apex Logistics SFO Inc., 111 Anza Blvd., Suite 120, Burlingame, CA 94010. Officer: Hong Lee, Owner (Qualifying Individual).

Adora International Services, dba Adora Shipping Co., 16809 FM 1485, Conroe, TX 77306. Dora Gay Hogland, Sole Proprietor.

Toshiba Logistics America, 9740 Irvine Boulevard, Irvine, CA 92618. Officers: Lisa Brown, Asst. Sec. of NVO Oper. (Qualifying Individual), Masato Hamzaki, President.

Dama Cargo Logistics, Corp., 11356 SW 85 Lane, Miami, FL 33173. Officers: Cesar A. Baez, Secretary (Qualifying Individual), Raymond A. Alonzo, President.

Dated: April 22, 2005.
Bryant L. VanBrakle,
Secretary.

[FR Doc. 05-8409 Filed 4-26-05; 8:45 am]

BILLING CODE 6730-01-P